DEPARTMENT OF HEALTH AND HUMAN SERVICES

Centers for Disease Control and Prevention

Notice of Award of a Sole Source Cooperative Agreement To Fund Rwanda Biomedical Center (RBC)

AGENCY: Centers for Disease Control and Prevention (CDC), Department of Health and Human Services (HHS).

ACTION: Notice.

SUMMARY: The Centers for Disease Control and Prevention (CDC), located within the Department of Health and Human Services (HHS), announces the award of approximately $17,500,000, for Year 1 funding to RBC. The award will support a sustainable, affordable, integrated, and country-led HIV/AIDS clinical and public health program in Rwanda. Funding amounts for years 2-5 will be set at continuation.

DATES: The period for this award will be September 30, 2024, through September 29, 2029.

FOR FURTHER INFORMATION CONTACT: Antyme Kayisabe, Center for Global Health, Centers for Disease Control and Prevention, 30 KG 7 Avenue (Kacyiru), P.O. Box 28 Kigali, Rwanda, telephone: 788382114, e-Mail: hqq9@cdc.gov.

SUPPLEMENTARY INFORMATION: The sole source award will support the government of Rwanda's vision of achieving and maintaining HIV epidemic control and the UNAIDS goal of ending HIV/AIDS as a public health threat by 2030.

RBC is in a unique position to conduct this work, as it possesses not only the mandate but also has the capacities to manage donor funds efficiently and in accordance with PEPFAR principles and United State Government regulations. All health workers implementing PEPFAR-supported HIV clinical services including HIV testing, Antiretroviral Therapy, TB/HIV, prevention of mother to child transmission, and laboratory services are Ministry of Health (MOH) staff. All health facilities where PEPFAR-supported services are offered are under RBC accreditation and authorization. RBC is successfully coordinating HIV services in all health facilities countrywide. It is the only entity capable of providing comprehensive services and integrating HIV into the national health system to cover all Rwanda districts at each level.

Summary of the Award

Recipient: Rwanda Biomedical Center (RBC).

Purpose of the Award: The purpose of this award is to support a sustainable, affordable, integrated, and country-led HIV/AIDS clinical and public health program in Rwanda.

Amount of Award: For RBC, the approximate year 1 funding amount will be $17,500,000 in Federal Fiscal Year (FYY) 2024 funds, subject to the availability of funds. Funding amounts for years 2-5 will be set at continuation.

Authority: This program is authorized under Public Law 108-25 (the United States Leadership Against HIV AIDS, Tuberculosis and Malaria Act of 2003) (22 U.S.C. 7601, et seq.) and Public Law 110-293 (the Tom Lantos and Henry J. Hyde United States Global Leadership Against HIV/AIDS, Tuberculosis, and Malaria Reauthorization Act of 2008), and Public Law 113-56 (PEPFAR Stewardship and Oversight Act of 2013).

Period of Performance: The period for this award will be September 30, 2024, through September 29, 2029.

Dated: March 13, 2024.
Jamie Legier,
Acting Director, Office of Grants Services, Centers for Disease Control and Prevention.

[FR Doc. 2024-05776 Filed 3-18-24; 8:45 am]

BILLING CODE 4163-18-P